DEPARTMENT OF COMMERCE

[I.D. 070104H]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: NOAA Space-Based Data Collection System (DCS) Agreements.

Form Number(s): None.

OMB Approval Number: 0648-0157.

Type of Review: Regular submission.

Burden Hours: 440.

Number of Respondents: 390.

Average Hours Per Response: 3 hours for GOES; 1 hour for ARGOS.

Needs and Uses: NOAA operates two space-based data collection systems (DCS): the Geostationary Operational Environmental Satellite (GOES) DCS and the Argos DSC flown on polar-orbiting satellites. NOAA allows users access to the DCS if they meet certain criteria. The applicants must submit information to ensure they meet these criteria. NOAA does not approve agreements when commercial services are available that fulfill users' requirements.

Affected Public: Not-for-profit institutions; business and other for-profit organizations; individuals or households, and State, Local or Tribal Government.

Frequency: 3-5 years.

Respondent's Obligation: Required to obtain or retain benefits.

OMB Desk Officer: David Rostker, (202) 395-3897.

Copies of the above information collection proposal can be obtained by calling or writing Diana Hynek, Departmental Paperwork Clearance Officer, (202) 482-0266, Department of Commerce, Room 6625, 14th and Constitution Avenue, NW, Washington, DC 20230 (or via the Internet at dHynek@doc.gov).

Written comments and recommendations for the proposed information collection should be sent within 30 days of publication of this notice to David Rostker, OMB Desk Officer, FAX number 202-395-7285, or David_Rostker@omb.eop.gov.

Dated: June 30, 2004.
Gwellnar Banks,
Management Analyst, Office of the Chief Information Officer.

[FR Doc. 04-15403 Filed 7-6-04; 8:45 am]

BILLING CODE 3510-HR-S